ENVIRONMENTAL PROTECTION AGENCY

[FRL-7115-5]

Federal NOX Budget Trading Program: Applicability Determination

AGENCY: Environmental Protection Agency (EPA).

ACTION: Notice of applicability determination under Federal NOX Budget Trading Program.

SUMMARY: EPA established 40 CFR part 97, the Federal NOX Budget Trading Program (“the Program”), to reduce interstate transport of ozone under section 126 of the Clean Air Act (“section 126”). The Program applies to existing or new large electric generating units (“EGU's”) and large non-EGU's (as defined at 40 CFR 52.34) in states subject to section 126. EPA finds, in an applicability determination dated November 30, 2001, that Point 30 at Weirton Steel Corporation's Plant 0001 in West Virginia is not subject to the Program because it is not a “boiler,” “combustion turbine,” or “combined cycle system” under 40 CFR 97.2. Since Point 30 is not subject to the Program, NOX allowances will not be allocated for this unit in EPA's NOX Allowance Tracking System.

DATES: Any comments regarding this applicability determination must be submitted in writing to EPA at the address below no later than January 10, 2002.

ADDRESSES: U.S. EPA, Clean Air Markets Division (6204N), Attn: Robert Miller, 1200 Pennsylvania Avenue, NW., Washington, DC 20460.

FOR FURTHER INFORMATION CONTACT: Robert Miller, U.S. EPA Headquarters, Clean Air Markets Division, (202) 564-9077.

Dated: November 30, 2001.
Brian J. McLean.
Director, Acid Rain Division, Office of Atmospheric Programs, Office of Air and Radiation.

[FR Doc. 01-30585 Filed 12-10-01; 8:45 am]

BILLING CODE 6560-50-P